DEPARTMENT OF HOMELAND SECURITY

Coast Guard

33 CFR Part 165

[Docket No. USCG-2013-0196]

RIN 1625-AA00

Safety Zone; Old Mormon Slough, Stockton, CA

AGENCY: Coast Guard, DHS.

ACTION: Notice of proposed rulemaking.

SUMMARY: The Coast Guard proposes to establish a safety zone at: McCormick & Baxter superfund site, Old Mormon Slough, Stockton, CA. This safety zone will support ongoing efforts by the Environmental Protection Agency to decontaminate soil, groundwater, and sediment in Old Mormon Slough and the surrounding basin. This safety zone will restrict vessels from entering Old Mormon Slough and disturbing the existing sediment cap needed for site decontamination. This safety zone will help reduce human health and environmental risks associated with clean up efforts at McCormick & Baxter superfund site.

DATES: Comments and related material must be received by the Coast Guard on or before August 16, 2013.

Requests for public meetings must be received by the Coast Guard on or before July 31, 2013.

ADDRESSES: You may submit comments identified by docket number USCG-2013-0196 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except Federal holidays. The telephone number is 202-366-9329.

See the “Public Participation and Request for Comments” portion of the SUPPLEMENTARY INFORMATION section below for instructions on submitting comments. To avoid duplication, please use only one of these three methods.

FOR FURTHER INFORMATION CONTACT: If you have questions on this rule, call or email Mr. Mike VanHouten, Waterways Management Division, U.S. Coast Guard; telephone 510-437-2968, email Mike.L.VanHouten@uscg.mil If you have questions on viewing or submitting material to the docket, call Barbara Hairston, Program Manager, Docket Operations, telephone 202-366-9826.

SUPPLEMENTARY INFORMATION:

A. Public Participation and Request for Comments

We encourage you to participate in this rulemaking by submitting comments and related materials. All comments received will be posted, without change, to http://www.regulations.gov and will include any personal information you have provided.

1. Submitting Comments

If you submit a comment, please include the docket number for this rulemaking (USCG-2013-0196), indicate the specific section of this document to which each comment applies, and provide a reason for each suggestion or recommendation. You may submit your comments and material online, or by fax, mail, or hand delivery, but please use only one of these means. We recommend that you include your name and a mailing address, an email address, or a phone number in the body of your document so that we can contact you if we have questions regarding your submission.

To submit your comment online, go to http://www.regulations.gov and type “USCG-2013-0196” in the “Search” box and click “Search.” Click on “Submit a Comment” on the line associated with this rulemaking.

If you submit your comments by mail or hand delivery, submit them in an unbound format, no larger than 8 1/2 by 11 inches, suitable for copying and electronic filing. If you submit them by mail and would like to know that they reached the Facility, please enclose a stamped, self-addressed postcard or envelope. We will consider all comments and material received during the comment period.

2. Viewing Comments and Documents

To view comments, as well as documents mentioned in this preamble as being available in the docket, go to http://www.regulations.gov, type the docket number “USCG-2013-0196” in the “search” box and click “Search.” You may also view the docket by visiting the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But, you may submit a request for a public meeting to the docket using one of the methods specified under ADDRESSES. In your request, explain why you believe a public meeting would be beneficial. If we determine that a public meeting would aid this rulemaking, we will hold one at a time and place announced by a later notice in the Federal Register.

B. Basis and Purpose

The Coast Guard is conducting this rulemaking under the authority of 33 U.S.C. 1231.

The purpose of this rule is to establish a safety zone in Old Mormon Slough to further efforts of the EPA to rehabilitate soil, sediment, and ground water from contaminates of the McCormick & Baxter Creosoting Company.

The McCormick & Baxter Creosoting Co. site is a 29-acre former wood-preserving facility located in an industrial area near the Port of Stockton. Old Mormon Slough, which is connected to the Stockton Deepwater Channel, borders the site on the north. Except for an 8-acre portion of the site owned by Southern Pacific Railroad Company, McCormick & Baxter owns the entire property. From 1942 to 1990, McCormick & Baxter treated utility poles and railroad ties with creosote, pentachlorophenol (PCP), and compounds of arsenic, chromium and copper. Wood treating chemicals were stored in tanks, and oily waste generated by the wood-treatment processes was stored in unlined ponds and concrete tanks on the site. The site came to the attention of state agencies in 1977 when a fish kill in New Mormon Slough and the Stockton Deepwater Channel was attributed to a release of PCP-contaminated storm water runoff from the McCormick & Baxter facility. In 1978, McCormick & Baxter constructed a perimeter dike to prevent storm water runoff from the site and installed two storm water collection ponds. The unlined oily waste ponds were closed in 1981. Sampling has shown that soils throughout the site and groundwater in the shallow aquifer beneath the site are contaminated with PCP, various constituents of creosote, dioxin (a contaminant in industrial-grade PCP) and metals. Soil contamination extends to greater than 40 feet below ground surface (BGS) in the central processing area of the site. Site investigations indicate that the shallow aquifer (0—200 ft BGS) is connected with the deeper aquifer, which is a drinking water source. However, no drinking water supplies are currently threatened by site-related contamination. Approximately 105,000 people live and work within 4 miles of the site. Sediment in Old Mormon Slough adjacent to the site is also contaminated, primarily with polycyclic aromatic hydrocarbons (PAHs) and dioxin. Site-related contaminants have been detected in fish caught in the vicinity of the site. People fish in the Stockton Channel and in Old Mormon Slough, although the McCormick & Baxter site is fenced and posted with warning signs.

Previous testing conducted by the EPA found soils and groundwater were contaminated with PCP, dioxin, PAHs, which are constituents of creosote, arsenic, chromium, and copper. In addition, non-aqueous phase liquids are widespread beneath the site. Sediment in Old Mormon Slough adjacent to the site is also contaminated, primarily with PAHs and dioxin. Individuals who accidentally ingest or come in direct contact with contaminated soil, sediment or groundwater could be at risk. Drinking water from the deep aquifer has not been affected by any contaminants from the McCormick & Baxter site. Oily seeps from the former oily waste ponds into Old Mormon Slough occurred in the past, although the seeps are now controlled. Site-related contaminants have been found in locally-caught fish, which may be consumed by nearby fishermen and their families. Sediment contamination also poses an environmental threat to aquatic organisms in the vicinity of the site.

The EPA is actively making efforts to control human exposure to contaminates via direct contact or ingestion in Old Mormon Slough as well as protect the decontamination process. The installation of storm water collection ponds and perimeter dike, site security improvements, chemical and sludge disposal, demolition and disposal of processing equipment and site structures, construction of a sheet piling wall along Old Mormon Slough, excavation and backfilling at the oily waste pond area, installation of a cap over the most heavily contaminated central portion of the site, and installation of a sand cap in Old Mormon Slough have reduced threats to public health and the environment from these areas of the site.

C. Discussion of Proposed Rule

The Coast Guard proposes to establish a safety zone in Old Mormon Slough to help effect the rehabilitation process at McCormick & Baxter superfund site. In effort to stop pleasure craft from disturbing the sediment cap in Old Mormon Slough the EPA established a log boom at the waterway entrance. However, tidal influences and heavy weather, at times, caused the log boom to shift and allow vessels unrestricted access. It is imperative for proper rehabilitation that control measures beyond physical are implemented to restrict waterside interaction and allow contaminates to dissipate.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, and does not require an assessment of potential costs and benefits under section 6(a)(3) of that Order. We anticipate that this rule will have minimal impact on the economy, will not interfere with other agencies, and will not raise any novel legal or policy issues. The safety zone created by this proposed rule affects a contaminated area of water that is currently being decontaminated. This area has been previously cordoned off by an EPA log boom to discourage transit in this area.

Thus, restrictions on vessel movement within this particular area are expected to be minimal. The Office of Management and Budget has not reviewed it under that Order.

2. Impact on Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The safety zone proposed by this rule will help prevent human health risks and allow for proper decontamination of the site. Its establishment will not affect any small entities. Therefore, the Coast Guard certifies under 5 U.S.C. 605(b) that this rule will not have a significant economic impact on a substantial number of small entities. Comments submitted in response to this finding will be evaluated under the criteria in the “Regulatory Information” section of this preamble.

3. Assistance for Small Entities

Under section 213(a) of the Small Business Regulatory Enforcement Fairness Act of 1996 (Pub. L. 104-121), we want to assist small entities in understanding this rule so that they can better evaluate its effects on them and participate in the rulemaking. If the rule will affect your small business, organization, or governmental jurisdiction and you have questions concerning its provisions or options for compliance; please consult Mr. Mike VanHouten via the ADDRESSES section of the rule. The Coast Guard will not retaliate against small entities that question or complain about this rule or any policy or action of the Coast Guard.

4. Collection of Information

This rule calls for no new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

13. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule is categorically excluded under section 2.B.2, figure 2-1, paragraph (34)(g) of the Instruction. This rule involves the protection of the sediment cap and ongoing efforts by the EPA to reduce human health risks.

A preliminary environmental analysis checklist and a preliminary categorical exclusion determination are available in the docket. We seek any comments or information that may lead to the discovery of a significant environmental impact from this proposed rule.

List of Subjects in 33 CFR Part 165

Navigation (water) and Waterways.

For the reasons discussed in the preamble, the Coast Guard proposes to amend 33 CFR part 165 as follows:

PART 165—SAFETY ZONES

1. The authority citation for part 165 continues to read as follows:

Authority: 33 U.S.C. 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Add § 165.1201 to read as follows:

§ 165.1201 Safety Zone; Old Mormon Slough, Stockton California.

(a) General. This safety zone is established to protect environmental rehabilitation efforts and prevent vessels from disturbing the sediment cap at Old Mormon Slough.

(b) Regulation. All vessels and personnel not associated with the EPA are prohibited from entering into and transiting Old Mormon Slough. Old Mormon Slough is defined as all waters Eastward from the connection of coordinates 37° 57′ 02.13″ North, 121° 18′ 49.55″ West and 37° 57′ 01.11″ North, 121° 18′ 46.75″ West (NAD 83).

(c) Each person in a safety zone who has notice of a lawful order or direction shall obey the order or direction of the COTP or District Commander issued to carry out the purposes of this subpart.

(d) The Coast Guard may be assisted in enforcing this rule by other Federal, state, or local agencies.

Dated: May 22, 2013.
K. L. Schultz,
Rear Admiral, U.S. Coast Guard, Commander, Eleventh Coast Guard District.

[FR Doc. 2013-17102 Filed 7-16-13; 8:45 am]

BILLING CODE 9110-04-P